DEPARTMENT OF JUSTICE

National Institute of Corrections

Solicitation for a Cooperative Agreement—Executive Excellence a Training and Development Program for Correctional Executives

AGENCY: National Institute of Corrections, U.S. Department of Justice.

ACTION: Solicitation for a Cooperative Agreement.

SUMMARY: The National Institute of Corrections (NIC) is soliciting proposals from organizations, groups, or individuals to enter into a cooperative agreement for a 15-month period to begin no later than September 15, 2013. This project will be a cooperative agreement and will involve working under the direction of NIC's Deputy Director to develop modify and enhance a competency based, blended modality training curriculum that follows the framework outlined in “Correctional Leadership Competencies for the 21st Century.” The framework has defined competencies at the executive level and is designed to meet a significant unfilled leadership development need for individuals the field of corrections who have demonstrated the potential to be the chief executive officer at the state, local or federal level. The curriculum that is currently in place is exceptional, but could always be improved upon. The content stresses leadership skill building, exposure to ethical and value based issues, self-awareness, strategic thinking, team oriented performance, effective decision making, executive visioning, mission and agenda setting, executive planning, politics of corrections both internally and externally as well the dynamics of creating collaborative partnerships in the external environment. Finally the program strives to develop strategic and critical thinking through a variety of experiential activities and group sessions. This project will be a collaborative venture with the NIC's Academy and Administrative Divisions.

NIC Opportunity Number: 13AC04 This number should appear in the reference line in your cover letter, on Standard Form 424 in section 11 with the title of your proposal, and in the right justified header of your proposal.

Number of Awards and Funds Available: Under this solicitation, 1 Award will be made. The total amount of funds available under this solicitation is $78,000. Funds awarded under this solicitation may only be used for activities directly related to the project as described herein unless otherwise amended in writing by NIC.

Applications: All applicants must be submitted electronically via http://www.grants.gov. Hand delivered, mailed, faxed, or emailed applications will not be accepted.

DATES: Application must be submitted before midnight on Thursday, August 8, 2013.

Authority: Public Law 93-415

Eligibility of Applicants: An eligible applicant is any public or private agency, educational institution, organization, individual or team with expertise in the described areas.

SUPPLEMENTARY INFORMATION:

Background: NIC has been committed for many years to the development and improvement of executive performance by providing outstanding leadership and management training to corrections' professionals. Executive Excellence has completed an exceptional history of 16 years of service to the field, with more than 500 graduates. A proposal responsive to this solicitation should, at a minimum include, information that demonstrates the applicants experience as a correctional or criminal justice chief executive officer, completed the current curriculum of Executive Excellence or another equally prestigious criminal justice executive development program. In addition the applicant should demonstrate an understanding of the concepts included in the text Correctional Leadership for the 21st Century, a portion of which specifically addresses the role of the Correctional Executive.

Scope of Work: At the end of this Cooperative Agreement, a revised or new module(s) for an Executive Excellence curriculum should be developed using NIC's Instructional Theory Into Practice (ITIP) model. The curriculum should include a facilitators manual, modifications or changes to the current participant's manual, and all relevant supplemental materials (such as PowerPoint presentations, visual &/or audio visual aids, handouts, exercises, etc.). The use of blended learning tools such as live web-based training sessions (e.g.,WebEx) and supplemental on-line tailored courses are encouraged.

Deliverables: At a minimum the awardee should be able to deliver the following products in complete and compliant form:

a narrative review and curriculum module that focuses on and creates an understanding for the role of the correctional executive,

a narrative overview and a curriculum module that focuses on and creates an understanding for the development of correctional policy at the executive level,

a narrative overview and a curriculum module that addresses the typical ethical dilemmas and decision making for correctional executives,

a narrative overview and a curriculum module for the correctional executive working in a troubled organization,

a narrative overview and a curriculum module for the correctional executive that addresses effective tactics and strategies for working with legislative bodies,

a narrative overview and a curriculum module for building an executive team within a correctional environment,

a narrative overview and a curriculum module effective correctional planning, both tactical and strategic,

develop and present a series of provocative evening sessions on contemporary criminal justice and correctional issues,

develop and present an overview as well as a curriculum module that provides the participants with an simulated experience for competing for an executive position for corrections at the federal, state and local levels,

develop an overview and present a curriculum module for the correctional executives working through the issues of technology and information management,

assist the course director in the recruitment, briefing and coordination of instructors and presenter's for the aforementioned subjects listed above and additional sessions as needed,

assist the course director with the recruitment and selection of 36 correctional candidates for two programs to be offered within the next 15 months,

develop or assure that lesson plans are developed for all presentations following the NIC ITIP format,

serve as the residential practitioner coordinator during all residential sessions and distance phases of the program,

develop a series of correctional case studies for the role of the correctional executive, the legislative process and ethical dilemmas in corrections,

finally, develop and reading file of contemporary literature that will be shared with all faculty, participant and staff associated with the program.

FOR FURTHER INFORMATION CONTACT: All technical or programmatic questions concerning this announcement should be directed to Robert M. Brown, Jr., Deputy Director, National Institute of Corrections who may be reached by email at rbrown@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” 13-AC-04 and the announcement, “Executive Excellence: A Correctional Executive Practitioner Resource. The package must include: A cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf

Failure to supply all required forms with the application package may result in disqualification of the application from consideration.

Note: NIC will not award a cooperative agreement to an applicant who does not have a Dun and Bradstreet Database Universal Number (DUNS) and is not registered in the System for Award Management (SAM).

A DUNS number can be received at no cost by calling the dedicated toll-free DUNS number request line at 1-800-333-0505 (if you are a sole proprietor, you would dial 1-866-705-5711 and select option 1).

Registration in the SAM can be done online at the SAM Web site: https://www.sam.gov/portal/public/SAM/

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished, to include the overall project goal(s), major tasks to achieve the goal(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to complete all project tasks? Does the proposal contain project management and staffing plans that are realistic and sufficient to complete the project within the project time frame?

Project Management/Administration (25%)

Does the applicant identify reasonable objectives and/or milestones that reflect the key tasks, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

The Catalog of Federal Domestic Assistance (CFDA) should be entered into box 10 of the SF 424. The CFDA number for this solicitation is 16.601. You are not subject to Executive Order 12372 and should check box b under section 16.

Robert M. Brown, Jr.,
Acting Director, National Institute of Corrections.

[FR Doc. 2013-17501 Filed 7-19-13; 8:45 am]

BILLING CODE 4410-36-P